DEPARTMENT OF TRANSPORTATION

Federal Aviation Administration

14 CFR Part 39

[Docket No. FAA-2004-19222; Directorate Identifier 2004-CE-29-AD]

RIN 2120-AA64

Airworthiness Directives; Eagle Aircraft (Malaysia) Sdn. Bhd. Model Eagle 150B Airplanes

AGENCY: Federal Aviation Administration (FAA), DOT.

ACTION: Notice of proposed rulemaking (NPRM).

SUMMARY: The FAA proposes to adopt a new airworthiness directive (AD) for all Eagle Aircraft (Malaysia) Sdn. Bhd. Model Eagle 150B airplanes. This proposed AD would require you to inspect the port and starboard undercarriage attach bracket for unwelded areas and replace the attach bracket if unwelded areas are found. This proposed AD results from mandatory continuing airworthiness information (MCAI) issued by the airworthiness authority for Malaysia. We are issuing this proposed AD to detect and correct inadequate welding of the undercarriage, which could result in cracks. This failure could lead to loss of control of the airplane.

DATES: We must receive any comments on this proposed AD by November 29, 2004.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Eagle Aircraft (Malaysia) Sdn. Bhd., PO Box 1028, Pejabat Pos Besar, Melanka, Malaysia, 75150; telephone: (606) 317-4105; facsimile: (606) 317-7213.

To view the comments to this proposed AD, go to http://dms.dot.gov. This is docket number FAA-2004-19222.

FOR FURTHER INFORMATION CONTACT: Karl Schletzbaum, Aerospace Engineer, Small Airplane Directorage, ACE-112, 901 Locust, Rm 301, Kansas City, Missouri 64106; telephone: (816) 329-4146; facsimile: (816) 329-4149.

SUPPLEMENTARY INFORMATION:

Comments Invited

How do I comment on this proposed AD? We invite you to submit any written relevant data, views, or arguments regarding this proposal. Send your comments to an address listed under ADDRESSES. Include the docket number, “FAA-2004-19222; Directorate Identifier 2004-CE-29-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2004-19222. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The Department of Civil Aviation, Malaysia (DCA), which is the airworthiness authority for Malaysia, recently notified FAA that an unsafe condition may exist on all Eagle Aircraft Sdn. Bhd. Model Eagle 150B airplanes. The DCA reports one case of finding cracks on a port main undercarriage attach bracket during a routine inspection. An unwelded area on the adjoining plates of the bracket may have caused stress that resulted in the cracking.

What is the potential impact if FAA took no action? Inadequate welding of the undercarriage attach bracket could result in cracks. This failure could lead to loss of control of the airplane.

Is there service information that applies to this subject? Eagle Aircraft Sdn. Bhd. has issued Alert Service Bulletin SB 1123, dated August 8, 2004.

What are the provisions of this service information? The service bulletin includes procedures for inspecting the port and starboard undercarriage attach bracket for unwelded areas.

What action did the DCA take? The DCA classified this service bulletin as mandatory and issued Malaysian CAM AD 001-08-2004 to ensure the continued airworthiness of these airplanes in Malaysia.

Did the DCA inform the United States under the bilateral airworthiness agreement? These Eagle 150B airplanes are manufactured in Malaysia and are type-certificated for operation in the United States under the provisions of section 21.29 of the Federal Aviation Regulations (14 CFR 21.29) and the applicable bilateral airworthiness agreement.

Under this bilateral airworthiness agreement, the DCA has kept us informed of the situation described above.

FAA's Determination and Requirements of This Proposed AD

What has FAA decided? We have examined the DCA's findings, reviewed all available information, and determined that AD action is necessary for products of this type design that are certificated for operation in the United States.

Since the unsafe condition described previously is likely to exist or develop on other Eagle 150B airplanes of the same type design that are registered in the United States, we are proposing AD action to detect and correct inadequate welding of the undercarriage attach bracket, which could result in cracks. This failure could lead to loss of control of the airplane.

What would this proposed AD require? This proposed AD would require you to inspect the port and starboard undercarriage attach bracket for unwelded areas in the locations specified in the service information and replace the attach bracket if unwelded areas are found.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 13 airplanes in the U.S. registry.

What would be the cost impact of this proposed AD on owners/operators of the affected airplanes? We estimate the following costs to accomplish this proposed inspection:

Labor cost | Parts cost | Total cost per airplane | Total cost on U.S. operators
.5 work hours × $65 per hour = $32.50 | N/A | $32.50 | $422.50

We estimate the following costs to accomplish any necessary replacements that would be required based on the results of this proposed inspection. We have no way of determining the number of airplanes that may need this replacement:

Labor cost | Parts cost | Total cost per airplane
1 work hour × $65 per hour = $65 | If the attach bracket requires replacement, Eagle Aircraft has agreed to provide the parts without cost. | $65

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2004-19222; Directorate Identifier 2004-CE-29-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eagle Aircraft (Malaysia) Sdn. Bhd.: Docket No. FAA-2004-19222; Directorate Identifier 2004-CE-29-AD

When Is the Last Date I Can Submit Comments on This Proposed AD?

(a) We must receive comments on this proposed airworthiness directive (AD) by November 29, 2004.

What Other ADs Are Affected by This Action?

(b) None.

What Airplanes Are Affected by This AD?

(c) This AD affects the following airplane models and serial numbers that are certificated in any category: Eagle Aircraft (Malaysia) Sdn. Bhd. Eagle 150B airplanes, serial numbers 016 through 044, M1001 through M1003, and M1005.

What Is the Unsafe Condition Presented in This AD?

(d) This AD is the result of unwelded areas on the undercarriage attach bracket. The actions specified in this AD are intended to detect and correct inadequate welding of the undercarriage, which could result in cracks. This failure could lead to loss of control of the airplane.

What Must I Do To Address This Problem?

(e) To address this problem, you must do the following:

Actions | Compliance | Procedures
(1) Inspect the port and starboard undercarriage attach bracket for unwelded areas | Within 50 hours time-in-service after the effective date of this AD | Follow Eagle Aircraft Service Bulletin SB 1123, dated August 8, 2004.
(2) If unwelded areas are found: (i) contact the manufacturer for replacement parts at mailing address Eagle Aircraft, P.O. Box 1028, Pejabat Pos Besar, Melaka, Malaysia 75150; telephone: (606) 317-4105, facsimile: (606) 317-7213; and (ii) install the replacement parts | Prior to further flight after the inspection required by paragraph (e)(1) of this AD | Follow Eagle Aircraft Service Bulletin SB 1123, dated August 8, 2004.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, Small Airplane Directorage, ACE-112, 901 Locust, Rm 301, Kansas City, Missouri, 64106; telephone: (816) 329-4146; facsimile: (816) 329-4149.

Is There Other Information That Relates to This Subject?

(g) DCA CAM AD 001-08-2004, dated August 12, 2004, and Eagle Aircraft Alert Service Bulletin SB 1123, dated August 8, 2004, also address the subject of this AD.

May I Get Copies of the Documents Referenced in This AD?

(h) To get copies of the documents referenced in this AD, contact Eagle Aircraft, PO Box 1028, Pejabat Pos Besar, Melaka, Malaysia, 75150; telephone: (606) 317-4105; facsimile: (606) 317-7213. To view the AD docket, go to the Docket Management Facility; U.S. Department of Transportation, 400 Seventh Street, SW., Nassif Building, Room PL-401, Washington, DC, or on the Internet at http://dms.dot.gov. This is docket number FAA-2004-19222.

Issued in Kansas City, Missouri, on October 14, 2004.
William J. Timberlake,
Acting Manager, Small Airplane Directorate, Aircraft Certification Service.

[FR Doc. 04-23623 Filed 10-21-04; 8:45 am]

BILLING CODE 4910-13-P